DEPARTMENT OF TRANSPORTATION

Federal Motor Carrier Safety Administration

[Docket No. FMCSA-2003-16564]

Qualification of Drivers; Exemption Applications; Vision

AGENCY: Federal Motor Carrier Safety Administration (FMCSA), DOT.

ACTION: Notice of applications for exemption from the vision standard; request for comments.

SUMMARY: This notice publishes the FMCSA's receipt of applications from 29 individuals for an exemption from the vision requirement in the Federal Motor Carrier Safety Regulations. If granted, the exemptions will enable these individuals to qualify as drivers of commercial motor vehicles (CMVs) in interstate commerce without meeting the vision standard prescribed in 49 CFR 391.41(b)(10).

DATES: Comments must be received on or before January 23, 2004.

ADDRESSES: You may submit comments identified by DOT DMS Docket Number FMCSA-2003-16564 by any of the following methods:

• Web site: http://dms.dot.gov. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m. Monday through Friday, except Federal Holidays.

• Federal eRulemaking Portal: Go to http://www.regulations.gov. Follow the on-line instructions for submitting comments.

Instructions: All submissions must include the agency name and docket number for this notice. For detailed instructions on submitting comments and additional information on the rulemaking process, see the Public Participation heading of the Supplementary Information section of this document. Note that all comments received will be posted without change to http://dms.dot.gov, including any personal information provided. Please see the Privacy Act heading under Regulatory Notices.

Docket: For access to the docket to read background documents or comments received, go to http://dms.dot.gov at any time or to Room PL-401 on the plaza level of the Nassif Building, 400 Seventh Street, SW., Washington, DC, between 9 a.m. and 5 p.m., Monday through Friday, except Federal Holidays.

FOR FURTHER INFORMATION CONTACT: Ms. Sandra Zywokarte, Office of Bus and Truck Standards and Operations, (202) 366-2987, FMCSA, Department of Transportation, 400 Seventh Street, SW., Washington, DC 20590-0001. Office hours are from 7:45 a.m. to 4:15 p.m., e.t., Monday through Friday, except Federal holidays.

SUPPLEMENTARY INFORMATION:

Public Participation: The DMS is available 24 hours each day, 365 days each year. You can get electronic submission and retrieval help guidelines under the “help” section of the DMS Web site. If you want us to notify you that we received your comments, please include a self-addressed, stamped envelope or postcard or print the acknowledgement page that appears after submitting comments on-line.

Privacy Act: Anyone is able to search the electronic form of all comments received into any of our dockets by the name of the individual submitting the comment (or signing the comment, if submitted on behalf of an association, business, labor union, etc.). You may review the Department of Transportation's complete Privacy Act Statement in the Federal Register published on April 11, 2000 (Volume 65, Number 70; Pages 19477-78) or you may visit http://dms.dot.gov.

Background

Under 49 U.S.C. 31315 and 31136(e), the FMCSA may grant an exemption for a 2-year period if it finds “such exemption would likely achieve a level of safety that is equivalent to, or greater than, the level that would be achieved absent such exemption.” The statute also allows the agency to renew exemptions at the end of the 2-year period. The 29 individuals listed in this notice have recently requested an exemption from the vision requirement in 49 CFR 391.41(b)(10), which applies to drivers of CMVs in interstate commerce. Accordingly, the agency will evaluate the qualifications of each applicant to determine whether granting the exemption will achieve the required level of safety.

Qualifications of Applicants

1. Lee A. Burke

Mr. Burke, age 46, has a corneal scar in his right eye due to a childhood injury. His best-corrected visual acuity in the right eye is 20/70 and in the left, 20/15. Following an examination in 2003, his ophthalmologist certified, “In summary, it is my medical opinion that Mr. Burke has very good vision with both eyes open. I have no concern about his abilities to safely operate a commercial vehicle.” Mr. Burke reported that he has driven straight trucks for 28 years, accumulating 112,000 miles. He holds a Class D driver's license from Wisconsin. His driving record for the last 3 years shows no crashes or convictions for moving violations in a CMV.

2. Barton C. Caldara

Mr. Caldara, 37, has amblyopia in his right eye. His best-corrected visual acuity in the right eye is 20/150 and in the left, 20/20. His ophthalmologist examined him in 2003 and stated, “I believe Mr. Caldara has sufficient vision to perform the driving tasks required to operate a commercial vehicle.” Mr. Caldara reported that he has driven tractor-trailer combinations for 13 years, accumulating 325,000 miles. He holds a Class ABCDM CDL from Wisconsin. His driving record for the last 3 years shows no crashes or convictions for moving violations in a CMV.

3. Terrance F. Case

Mr. Case, 59, has amblyopia in his left eye. His best-corrected visual acuity in the right eye is 20/20 and in the left, 20/200. Following an examination in 2003, his optometrist stated, “He has functioned normally all his life with this vision and in my professional opinion he has sufficient vision to perform the driving tasks required to operate a commercial vehicle.” Mr. Case submitted that he has driven straight trucks for 28 years, accumulating 308,000 miles, and tractor-trailer combinations for 5 years, accumulating 350,000 miles. He holds a Class A CDL from Maine. His driving record for the last 3 years shows no crashes or convictions for moving violations in a CMV.

4. Lawrence M. Daley

Mr. Daley, 55, has had a central field defect in his left eye due to histoplasmosis since 1997. His best-corrected visual acuity in the right eye is 20/20 and in the left, 20/150. Following an examination in 2003, his ophthalmologist certified, “In light of Mr. Daley having operated a commercial vehicle safely for the last 6 years with this condition, I feel he has sufficient vision to perform the driving tasks required to operate a commercial vehicle.” Mr. Daley reported that he has driven straight trucks for 3 years, accumulating 150,000 miles, and tractor-trailer combinations for 30 years, accumulating 300,000 miles. He holds a Class D driver's license from South Carolina. His driving record for the last 3 years shows no crashes or convictions for moving violations in a CMV.

5. Allan Darley

Mr. Darley, 44, has amblyopia in his left eye. His best-corrected visual acuity in the right eye is 20/20 and in the left, 20/125. Following an examination in 2003, his ophthalmologist stated, “According to findings of my examination, I feel that he would, therefore, qualify to have sufficient vision to perform his driving tasks as required for operating a commercial vehicle.” Mr. Darley submitted that he has driven straight trucks for 23 years, accumulating 460,000 miles, and tractor-trailer combinations for 18 years, accumulating 360,000 miles. He holds a Class A CDL from Utah. His driving record for the last 3 years shows no crashes or convictions for moving violations in a CMV.

6. Charley Davis

Mr. Davis, 50, lost his left eye due to an injury 30 years ago. His visual acuity in the right eye is 20/20. Following an examination in 2003, his optometrist certified, “In my opinion, due to his excellent visual acuity, good peripheral vision, and many years of driving experience, he has sufficient vision for driving a commercial vehicle.” Mr. Davis reported that he has driven tractor-trailer combinations for 29 years, accumulating 3.5 million miles. He holds a Class A CDL from Oklahoma. His driving record for the last 3 years shows no crashes or convictions for moving violations in a CMV.

7. Ray L. Emert

Mr. Emert, 44, lost his left eye due to an injury in 1982. His visual acuity in the right eye is 20/20. Following an examination in 2003, his optometrist certified, “It is my opinion that Mr. Emert has sufficient and stable vision to perform any tasks needed to drive a commercial vehicle.” Mr. Emert reported that he has driven straight trucks for 9 years, accumulating 765,000 miles, and tractor-trailer combinations for 8 years, accumulating 960,000 miles. He holds a Class AM CDL from Pennsylvania. His driving record for the last 3 years shows no crashes or convictions for moving violations in a CMV.

8. Robin S. England

Mr. England, 40, is blind in his left eye due to an accident at age 11. The visual acuity in his right eye is 20/20. His optometrist examined him in 2003 and certified, “In my opinion, Mr. English has sufficient vision to perform the driving tasks required to operate a commercial vehicle.” Mr. England submitted that he has driven straight trucks and tractor-trailer combinations for 23 years, accumulating 1.2 million miles in the former and 2.9 million miles in the latter. He holds a Class A CDL from Georgia. His driving record for the last 3 years shows no crashes or convictions for moving violations in a CMV.

9. Jessie W. Ford

Mr. Ford, 58, has a corneal scar in his right eye due to trauma 42 years ago. His visual acuity in the right eye is 20/200 and in the left, 20/20. His optometrist examined him in 2003 and certified, “It is my medical opinion that Mr. Ford has sufficient vision to perform the driving tasks required to operate a commercial vehicle.” Mr. Ford reported that he has driven straight trucks for 39 years, accumulating 1.7 million miles, and tractor-trailer combinations for 29 years, accumulating 1.5 million miles. He holds a Class A CDL from Louisiana. His driving record shows no crashes or convictions for moving violations in a CMV during the last 3 years.

10. Richard Hailey, Jr.

Mr. Hailey, 48, is blind in his right eye due to an injury at age 9. His visual acuity in the left eye is 20/20. Following an examination in 2003, his ophthalmologist certified, “In my opinion, Mr. Hailey has sufficient vision to perform the driving tasks required to operate a commercial vehicle.” Mr. Hailey reported that he has driven buses for 6 years, accumulating 84,000 miles. He holds a Class D operator's license from the District of Columbia currently, but at the time of his application he held a Class B CDL, now expired. His driving record for the last 3 years shows no crashes or convictions for moving violations in a CMV.

11. Spencer N. Haugen

Mr. Haugen, 55, has amblyopia in his right eye. The visual acuity in his right eye is 20/600 and in the left, 20/20. Following an examination in 2003, his optometrist stated, “In my opinion, he has sufficient vision to perform required driving tasks and has sufficient vision to operate a commercial vehicle.” Mr. Haugen submitted that he has driven straight trucks and tractor-trailer combinations for 35 years, accumulating 280,000 miles in the former and 2.1 million miles in the latter. He holds a Class AM CDL from North Dakota. His driving record shows no crashes or convictions for moving violations in a CMV during the last 3 years.

12. Thomas R. Hedden

Mr. Hedden, 49, lost his right eye due to an injury in 1956. His best-corrected visual acuity in the left eye is 20/20. Following an examination in 2003, his optometrist certified, “I certify in my medical opinion, Mr. Hedden has adequate vision in his left eye to allow him to operate a commercial vehicle safely.” Mr. Hedden reported that he has driven straight trucks and tractor-trailer combinations for 30 years, accumulating 300,000 miles in each, and buses for 1 year, accumulating 500 miles. He holds a Class A CDL from Illinois. His driving record for the last 3 years shows no crashes or convictions for moving violations in a CMV.

13. William G. Hix

Mr. Hix, 49, lost his left eye due to an injury in 1994. His visual acuity in the right eye is 20/15. His optometrist examined him in 2003 and certified, “In my opinion, Mr. Hix does have sufficient vision to perform the driving tasks required to operate a commercial vehicle.” Mr. Hix reported that he has driven straight trucks for 25 years, accumulating 200,000 miles, and tractor-trailer combinations for 20 years, accumulating 80,000 miles. He holds a Class A CDL from Arkansas. His driving record for the last 3 years shows no crashes or convictions for moving violations in a CMV.

14. Robert V. Hodges

Mr. Hodges, 53, has amblyopia in his left eye. His visual acuity in the right eye is 20/20 and in the left, 20/800. His ophthalmologist examined him in 2003 and stated, “To summarize, I certify that Mr. Hodges has sufficient vision to perform the driving tasks required to operate a commercial vehicle.” Mr. Hodges reported that he has driven straight trucks and tractor-trailer combinations for 32 years, accumulating 320,000 miles in the former and 1.3 million miles in the latter. He holds a Class A CDL from Illinois. His driving record shows no crashes or convictions for moving violations in a CMV during the last 3 years.

15. Jay W. Jarvis

Mr. Jarvis, 53, has amblyopia in his left eye. The best-corrected visual acuity in his right eye is 20/20 and in the left, 20/100. His optometrist examined him in 2003 and stated, “At this time Mr. Jarvis has sufficient distance and peripheral field of vision to perform the driving tasks that he has been performing during the past nine and a half years. Mr. Jarvis' driving record shows his ability to operate commercial vehicles without any contraindications.” Mr. Jarvis reported that he has driven tractor-trailer combinations for 18 years, accumulating 1.8 million miles. He holds a Class A CDL from Florida. His driving record for the last 3 years shows no crashes or convictions for moving violations in a CMV.

16. George R. Knavel

Mr. Knavel, 63, experienced a retinal detachment in his left eye at age 10. The visual acuity in his right eye is 20/15 and in the left, hand motion. His ophthalmologist examined him in 2003 and certified, “It is my medical opinion that he should be allowed to continue to drive commercially, and would request that you renew his operating license.” Mr. Knavel reported that he has driven straight trucks for 3 years, accumulating 75,000 miles, and tractor-trailer combinations for 42 years, accumulating 4.6 million miles. He holds a Class A CDL from Utah. His driving record for the last 3 years shows no crashes or convictions for moving violations in a CMV.

17. John R. Knott, III

Mr. Knott, 47, lost his right eye due to trauma at age 8. The visual acuity in his left eye is 20/20. Following an examination in 2003 his ophthalmologist stated, “I informed the patient that as long as he continues to turn his head to the right in order to fully visualize objects to his right, that he should be able to continue to operate a commercial vehicle safely.” Mr. Knott reported that he has driven tractor-trailer combinations for 21 years, accumulating 2.0 million miles. He holds a Class AM CDL from Maryland. His driving record for the last 3 years shows no crashes or convictions for moving violations in a CMV.

18. Duane R. Krug

Mr. Krug, 59, has amblyopia in his left eye. His best-corrected visual acuity in the right eye is 20/20 and in the left, 20/80. Following an examination in 2003, his optometrist certified, “I certify that, in my professional opinion, Mr. Krug has adequate vision to safely operate a commercial vehicle.” Mr. Krug reported that he has driven straight trucks for 11 years, accumulating 275,000 miles. He holds a Class B CDL from Illinois. His driving record for the last 3 years shows no crashes or convictions for moving violations in a CMV.

19. Eric M. Moats, Sr.

Mr. Moats, 34, lost his left eye due to an injury 27 years ago. His visual acuity in the right eye is 20/15. Following an examination in 2003, his ophthalmologist certified, “I see no difficulty in having this patient operate a commercial vehicle, since he has sufficient vision, color vision, and visual field.” Mr. Moats reported that he has driven straight trucks for 8 years, accumulating 260,000 miles. He holds a Class B CDL from Maryland. His driving record for the last 3 years shows no crashes or convictions for moving violations in a CMV.

20. Lester T. Papke

Mr. Papke, 61, has amblyopia in his right eye. His best-corrected visual acuity in the right eye is 20/60 and in the left, 20/20. Following an examination in 2003, his optometrist stated, “In my opinion, this patient's vision is stable and does not restrict him in the operation of a commercial vehicle.” Mr. Papke submitted that he has driven straight trucks for 20 years, accumulating 400,000 miles, and tractor-trailer combinations for 20 years, accumulating 1.0 million miles. He holds a Class A CDL from Montana. His driving record for the last 3 years shows no crashes or convictions for moving violations in a CMV.

21. Edward D. Pickle

Mr. Pickle, 60, lost his left eye due to trauma at age 2. His best-corrected visual acuity in the right eye is 20/15. His optometrist examined him in 2003 and stated, “From his past record and considering our findings, I would conclude that Mr. Pickle has sufficient vision to perform the driving tasks required to operate a commercial vehicle.” Mr. Pickle reported that he has driven straight trucks for 10 years, accumulating 250,000 miles, and tractor-trailer combinations for 10 years, accumulating 500,000 miles. He holds a Class AM CDL from Georgia. His driving record for the last 3 years shows no crashes or convictions for moving violations in a CMV.

22. Charles D. Pointer

Mr. Pointer, 61, is blind in his left eye due to an injury at age 2. His best-corrected visual acuity in the right eye is 20/20. Following an examination in 2003, his optometrist certified, “Visual deficiency is stable and patient does have sufficient vision to perform driving tasks required for commercial vehicle.” Mr. Pointer reported that he has driven straight trucks and tractor-trailer combinations for 6 years, accumulating 30,000 miles in the former and 600 miles in the latter. He holds a Class A CDL from Georgia. His driving record for the last 3 years shows no crashes or convictions for moving violations in a CMV.

23. Richard A. Pruitt

Mr. Pruitt, 46, has amblyopia in his left eye. His best-corrected visual acuity in the right eye is 20/20 and in the left, 20/60. Following an examination in 2003, his ophthalmologist certified, “Our recommendation is that the patient should be able to drive a commercial vehicle well with use of glasses.” Mr. Pruitt reported that he has driven tractor-trailer combinations for 18 years, accumulating 1.5 million miles. He holds a Class A CDL from Virginia. His driving record for the last 3 years shows two crashes and no convictions for moving violations in a CMV. According to the police report for the first crash, another driver failed to stop before entering the roadway from a parking lot and struck Mr. Pruitt's vehicle. The other driver was cited for “reckless driving.” According to the police report for the second crash, Mr. Pruitt's vehicle struck a cow. Mr. Pruitt was not cited in either crash.

24. Kent S. Reining

Mr. Reining, 30, has amblyopia in his right eye. His best-corrected visual acuity in the right eye is 20/100 and in the left, 20/15. Following an examination in 2003 his optometrist certified, “In my medical opinion, Kent Reining has sufficient vision to perform the driving tasks required to operate a commercial vehicle.” Mr. Reining submitted that he has driven straight trucks for 10 years, accumulating 35,000 miles, and tractor-trailer combinations for 13 years, accumulating 910,000 miles. He holds a Class A CDL from Illinois. His driving record for the last 3 years shows no crashes and two convictions for moving violations—speeding and “failure to obey a traffic sign”—in a CMV. He exceeded the speed limit by 13 mph.

25. Bruce K. Robb

Mr. Robb, 48, has amblyopia in his left eye. The visual acuity in his right eye is 20/20 and in the left, light perception. Following an examination in 2003 his optometrist certified, “It is my medical opinion Mr. Robb has sufficient vision to perform the driving tasks required to operate a commercial vehicle.” Mr. Robb submitted that he has driven straight trucks for 8 years, accumulating 320,000 miles, and tractor-trailer combinations for 10 years, accumulating 900,000 miles. He holds a Class A CDL from South Dakota. His driving record shows no crashes or convictions for moving violations in a CMV during the last 3 years.

26. James J. Rouse

Mr. Rouse, 52, has amblyopia in his right eye. His best-corrected visual acuity in the right eye is counting fingers and in the left, 20/20. His ophthalmologist examined him in 2003 and certified, “In my medical opinion, he has sufficient vision to continue driving commercial vehicles.” Mr. Rouse submitted that he has driven straight trucks for 32 years, accumulating 960,000 miles, tractor-trailer combinations for 4 years, accumulating 80,000 miles, and buses for 13 years, accumulating 26,000 miles. He holds a Class A CDL from Pennsylvania. His driving record for the last 3 years shows no crashes or convictions for moving violations in a CMV.

27. Ronald D. Ulmer

Mr. Ulmer, 56, has amblyopia in his right eye. His best-corrected visual acuity in the right eye is count fingers and in the left, 20/20. Following an examination in 2003, his optometrist certified, “In my medical opinion, I do think that Ronald has sufficient vision to perform the driving tasks required to operate a commercial vehicle.” Mr. Ulmer reported that he has driven straight trucks for 12 years, accumulating 480,000 miles. He holds a Class B CDL from Montana. His driving record for the last 3 years shows no crashes or convictions for moving violations in a CMV.

28. Mitchell A. Webb

Mr. Webb, 52, has amblyopia in his left eye. His best-corrected visual acuity in the right eye is 20/15 and in the left, 20/400. His optometrist examined him in 2003 and stated, “In my opinion, Mr. Webb has sufficient vision to continue to perform the driving tasks required to operate a commercial vehicle.” Mr. Webb reported that he has driven straight trucks for 30 years, accumulating 900,000 miles, and tractor-trailer combinations for 20 years, accumulating 100,000 miles. He holds a Class A CDL from Virginia. His driving record for the past 3 years shows no crashes or convictions for moving violations in a CMV.

29. Jerry L. Wilder

Mr. Wilder, 39, lost the vision in his right eye due to trauma in 1984. The visual acuity in his left eye is 20/20. Following an examination in 2003 his ophthalmologist stated, “It is clear that Mr. Wilder has normal vision in the left eye, and I see no reason why he cannot drive safely using the mirrors that are the standard operating equipment in a truck/vehicle cab. It is clear that Mr. Wilder has been driving safely commercially for several years, and I feel that he is well adapted to continue to do so.” Mr. Wilder reported that he has driven straight trucks for 4 years, accumulating 376,000 miles, and tractor-trailer combinations for 11 years, accumulating 1.4 million miles. He holds a Class A CDL from California. His driving record for the last 3 years shows no crashes and one conviction for a moving violation —speeding— in a CMV. He exceeded the speed limit by 10 mph.

Requests for Comments

In accordance with 49 U.S.C. 31315 and 31136(e), the FMCSA requests public comment from all interested persons on the exemption petitions described in this notice. We will consider all comments received before the close of business on the closing date indicated earlier in the notice.

Issued on: December 12, 2003.
Rose A. McMurray,
Associate Administrator, Policy and Program Development.

[FR Doc. 03-31752 Filed 12-23-03; 8:45 am]

BILLING CODE 4910-EX-P